DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before March 12, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on February 6, 2020.
Donald P. Burger,
Chief, General Approvals and Permits Branch.

Application No. | Applicant | Regulation(s) affected | Nature of the special permits thereof
Special Permits Data—Granted
15279-M | University of Colorado At Boulder, EHS | 172.301(a), 172.301(b), 172.301(c), 173.199(a)(3), 173.199(a)(4), 173.199(a)(5), 178.609 | To modify the special permit to authorize new destinations due to lab increasing in size and moving.
16011-M | Americase, LLC | 172.200, 172.300, 172.500, 172.400, 172.600, 172.700(a), 173.185(c), 173.185(f) | To modify the special permit to authorize an additional package.
16061-M | Battery Solutions, LLC | 172.200, 172.300, 172.400, 173.185(c)(1)(iii), 173.185(c)(1)(iv), 173.185(c)(1)(v), 173.185(c)(3) | To modify the special permit to authorize additional Class 8 and 9 hazmat, to remove the UN packaging code from the permit, to clarify the term operator and to increase the maximum gross mass of CellBlockEX material per package to 400kg.
20352-M | Schlumberger Technology Corp | 173.301(f), 173.302(a), 173.304(a), 173.304(d), 178.36(f) | To modify the special permit to authorize a thinner cylinder wall thickness of the cylinder.
20549-M | Cellblock FCS, LLC | 172.400, 172.700(a), 172.102(c)(1), 172.200, 172.300 | To modify the special permit to authorize rail as an approved mode of transport.
20710-M | Kerr Corporation | 173.4a(c)(2), 173.4a(e)(2) | To modify the special permit to authorize an alternative package marking (QR Code) in lieu of requiring a copy of the special permit to accompany each shipment.
20896-N | Applied Energy Systems, Inc | 172.101(j), 173.187, 173.212, 173.240, 173.242, 176.83 | To authorizes the transportation in commerce of a gas purification apparatus containing certain Division 4.2 (spontaneously combustible solids) in non-DOT specification stainless steel pressure vessels.
20910-M | Cellblock Fcs, LLC | 172.200, 172.300, 172.500, 172.400, 172.700(a) | To modify the special permit to authorize rail transportation.
20926-N | Cold Box Express, Inc | 172.200, 172.600, 172.700(a) | To authorize the use of certain temperature-controlled shipping containers containing lithium ion batteries as not subject to certain shipping paper, training, and emergency response requirements.
20935-N | Daicel Safety Systems Americas, Inc | 172.320, 173.54(a), 173.56(b), 173.57, 173.58, 173.60 | To authorize the transportation in commerce of explosive articles classed as Division 1.4S, when packed in a special shipping container without being approved in accordance with 173.56.
20949-N | Sigma-Aldrich, Inc | 178.601(k) | To authorize the testing of UN 4G combination packagings for the transportation in commerce of hazardous materials in which the inner packagings have been used multiple times to complete the tests in §§ 178.603, 178.606, and 178.608.
20952-N | Capella Space Corp | 173.185(a) | To authorize the transportation in commerce of low production lithium ion batteries contained in equipment by cargo-only aircraft.
20958-N | University Of Colorado | 173.301(g), 173.24(b), 173.24(f), 173.24(g), 175.30(c)(1) | To authorize the transportation in commerce of compressed air in Specification DOT 3AA cylinders, which are used to purge sensitive equipment.
20977-N | Rocket Lab Limited | 173.185(a), 173.185(b)(4) | To authorize the transportation in commerce of low production lithium ion batteries contained in equipment (launch vehicle) in non-DOT specification packagings.
20979-N | Atk Space Systems Inc |  | To authorize the transportation in commerce of hazardous materials over 422 feet of public roadways without being subject to the HMR.
Special Permits Data—Denied
20879-N | Aviall Services, Inc | 172.200, 172.300, 172.400, 173.159(j), 173.159(j)(3), 173.159(j)(4) | To authorize the transportation in commerce of nickel-cadmium batteries as not subject to the requirements of the HMR.
20943-N | Zhejiang Meenyu Can Industry Co., Ltd | 173.304(a), 173.304(d) | To authorize the manufacture, mark, sale, and use of non-DOT specification receptacles.
20956-N | Valtris Specialty Chemicals | 171.8, 171.4, 172.203(l), 172.322, 176.70 | To authorize the transportation in commerce of two materials as not meeting the § 171.8 definition of a marine pollutant.
13179-M | Recycle Aerosol, LLC | 173.21(i) | To modify the special permit to authorize recycling or reclamation as well as disposal of waste hazmat. (modes 1, 2, 3)
20893-M | Daimler Ag | 172.301(c), 173.185(a) | To modify the special permit to authorize the transportation in commerce of untested pre-production lithium ion batteries contained in a flammable liquid powered vehicle. (mode 4)
20945-N | Air Medical Resource Group, Inc | 172.101(j), 172.204(c)(3), 173.27(b)(2), 175.30(a)(1) | To authorize the transportation in commerce of limited quantities of hazardous materials that exceed quantity limitations by air.
20946-N | Volkswagen Ag | 172.101(j) | To authorize the transportation in commerce of lithium ion batteries exceeding 35 kg net weight by cargo-only aircraft.
20981-N | Republic Helicopters, Inc | 172.200, 172.300, 172.400, 173.27, 175.30, 175.33 | To authorize the transportation in commerce of refrigerating units via rotocraft external loads.
20987-N | Aji Bio-Pharma | 172.200, 172.400 | To authorize the transportation in commerce of certain Division 6.1 hazardous materials without shipping papers and labels.

[FR Doc. 2020-02703 Filed 2-10-20; 8:45 am]

BILLING CODE 4909-60-P